DEPARTMENT OF ENERGY

10 CFR Part 430

[Docket Number EERE-2010-BT-TP-0021]

RIN 1904-AC08

Energy Conservation Program: Test Procedures for Residential Clothes Washers; Correction

AGENCY: Office of Energy Efficiency and Renewable Energy, Department of Energy.

ACTION: Final rule; correction.

SUMMARY: The U.S. Department of Energy (DOE) is correcting a final rule establishing revised test procedures for residential clothes washers, published in the Federal Register on March 7, 2012, and applicable as of April 6, 2012. DOE erroneously omitted regulatory language to remove the obsolete parenthetical note from the water factor calculation section of the currently applicable test procedure.

DATES: Effective: April 6, 2012.

FOR FURTHER INFORMATION CONTACT: Stephen L. Witkowski, U.S. Department of Energy, Office of Energy Efficiency and Renewable Energy, Building Technologies Program, EE-2J, 1000 Independence Avenue SW., Washington, DC 20585-0121. Telephone: (202) 586-7463. Email: Stephen.Witkowski@ee.doe.gov.

Elizabeth Kohl, Esq., U.S. Department of Energy, Office of General Counsel, GC-71, 1000 Independence Avenue SW., Washington, DC 20585-0121. Telephone: (202) 586-7796. Email: Elizabeth.Kohl@hq.doe.gov.

SUPPLEMENTARY INFORMATION: DOE published new and amended test procedures for residential clothes washers on March 7, 2012 (hereafter, the “March 2012 final rule”). 77 FR 13888. The current test procedure is codified at appendix J1 in 10 CFR part 430 subpart B (hereafter, “appendix J1”). The March 2012 final rule amended certain provisions in appendix J1 and also established new clothes washer test procedures, codified in a new appendix J2. Residential clothes washer manufacturers must continue to use appendix J1 to determine compliance of their products with energy conservation standards until the compliance date of any amended standards.

In the preamble to the March 2012 final rule, DOE described its intention to remove an obsolete parenthetical note in section 4.2 of appendix J1, which states that the water factor calculations need not be performed to determine compliance with the energy conservation standards for clothes washers. The Energy Independence and Security Act of 2007 (EISA 2007) amended the Energy Policy and Conservation Act (42 U.S.C. 6291, et seq.) by establishing a water factor standard for top-loading and front-loading standard-size residential clothes washers manufactured on or after January 1, 2011 (42 U.S.C. 6295(g)(9)(A)(ii)); accordingly, this parenthetical note is now obsolete. The calculations in section 4.2 must be performed to determine compliance with energy conservation standards for these clothes washers. In the March 2012 final rule, DOE erroneously omitted regulatory language to remove the obsolete parenthetical note from the water factor calculation section of appendix J1. This final rule corrects section 4.2 of appendix J1 to remove this obsolete note.

In FR Doc. 2012-4819 appearing on page 13888 in the Federal Register of Wednesday, March 7, 2012, the following corrections are made:

Appendix J1 [Corrected]

1. On page 13937, correct amendatory instruction 7.m. to read as follows:

m. Revising section 4.2 introductory text;

2. On page 13938, third column, before 4.2.3, add the following text:

4.2 Water consumption of clothes washers.

* * * * *

Issued in Washington, DC, on March 29, 2012.
Kathleen B. Hogan,
Deputy Assistant Secretary, Energy Efficiency and Renewable Energy.

[FR Doc. 2012-8073 Filed 4-3-12; 8:45 am]

BILLING CODE 6450-01-P